DEPARTMENT OF DEFENSE

Office of the Secretary; Submission for OMB review; comment request

ACTION: Notice.

SUMMARY: The Department of Defense has submitted to OMB for clearance, the following proposal for collection of information under the provisions of the Paperwork Reduction Act (44 U.S.C. Chapter 35).

DATES: Consideration will be given to all comments received by April 3, 2002.

Title, Form, and OMB Number: Application for Training leading to a Commission in the United States Air Force; AF Form 56; OMB Number 0701-0001.

Type of Request: Reinstatement.

Number of Respondents: 2,900.

Responses per Respondent: 1.

Annual Responses: 2,900.

Average Burden per Response: 3 hours.

Annual Burden Hours: 8,700.

Needs and Uses: Information contained on Air Force Form 56 supports the Air Force's selection for officer training programs for civilian and military applicants. Each student's background and aptitude is reviewed to determine eligibility. If the information on this form is not collected, the individual cannot be considered for admittance to a commissioning program. Data from this form is used to select fully qualified persons for the training leading to commissioning. Data supports the Air Force in verifying the eligibly of applicants and in the selection of those best qualified for dedication of funding and training resources. Eligibility requirements are outlined in Air Force Instruction 36-2013.

Affected Public: Individuals or Households.

Frequency: On Occasion.

Respondents Obligation: Required to Obtain or Retain Benefits.

OMB Desk Officer: Ms. Jackie Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/DOIS, 1215 Jefferson Davis Highway, Suite 1204, Arlington, VA 22202-4302.

Dated: February 25, 2002.
Patricia L. Toppings,
Alternate OSD Federal Register, Liaison Officer, Department of Defense.

[FR Doc. 02-4984 Filed 3-1-02; 8:45 am]

BILLING CODE 5001-08-M